DEPARTMENT OF ENERGY

Federal Energy Regulatory Commission

[Docket No. RP01-172-006]

Mojave Pipeline Company; Notice of Filing of Fuel Imbalance Refund Report

August 6, 2003.

Take notice that on June 30, 2003, Mojave Pipeline Company (Mojave) filed a fuel imbalance refund report at Docket No. RP01-172.

Mojave states that the fuel refunds were made to comply with the terms of its Settlement at Docket No. RP01-172-000 (Settlement), which was accepted by Commission Order issued January 31, 2002.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 12, 2003.
Magalie R. Salas,
Secretary.

[FR Doc. 03-20618 Filed 8-12-03; 8:45 am]

BILLING CODE 6717-01-P